DEPARTMENT OF TRANSPORTATION

Federal Aviation Administration

14 CFR Part 39

[Docket No. FAA-2012-0731; Directorate Identifier 2012-CE-020-AD]

RIN 2120-AA64

Airworthiness Directives; Piper Aircraft, Inc. Airplanes

AGENCY: Federal Aviation Administration (FAA), DOT.

ACTION: Notice of proposed rulemaking (NPRM).

SUMMARY: We propose to adopt a new airworthiness directive (AD) for certain Piper Aircraft, Inc. (type certificate previously held by The New Piper Aircraft Inc.) PA-28, PA-32, PA-34, and PA-44 airplanes. This proposed AD was prompted by reports of control cable assembly failures that may lead to failure of the horizontal stabilator control system and could result in loss of pitch control. This proposed AD would require inspections of the stabilator control system and replacement of parts as necessary. We are proposing this AD to correct the unsafe condition on these products.

DATES: We must receive comments on this proposed AD by September 17, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Piper Aircraft, Inc., 2926 Piper Drive, Vero Beach, Florida 32960; telephone: (772) 567-4361; Internet: www.piper.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Hector Hernandez, Aerospace Engineer, FAA, Atlanta Aircraft Certification Office, 1701 Columbia Avenue, College Park, Georgia 30337; telephone: (404) 474-5587; fax: (404) 474-5606; email: hector.hernandez@faa.gov.

SUPPLEMENTARY INFORMATION:

Comments Invited

We invite you to send any written relevant data, views, or arguments about this proposal. Send your comments to an address listed under the ADDRESSES section. Include “Docket No. FAA-2012-0731; Directorate Identifier 2012-CE-020-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports of control cable assembly failures that may lead to failure of the horizontal stabilator control system on Piper PA-28, PA-32, PA-34, and PA-44 airplanes. We have had reports of cracks, corrosion, failure of the turnbuckle, control cable fraying, the cable swage end broken and the system being held together by turnbuckle safety wire. In one report, an elevator cable was found broken at the terminal end near the turnbuckle, and, in another report, the elevator cable failed at the fitting that treads into the turnbuckle. This condition, if not corrected, could result in failure of the horizontal stabilator control system with subsequent loss of pitch control.

Relevant Service Information

We reviewed Piper Aircraft, Inc. Mandatory Service Bulletin No. 1245, dated May 3, 2012. That service information describes procedures for inspections of the stabilator control system.

FAA's Determination

We are proposing this AD because we evaluated all the relevant information and determined the unsafe condition described previously is likely to exist or develop in other products of the same type design.

Proposed AD Requirements

This proposed AD would require inspections of the stabilator control system and replacement of parts as necessary. We are proposing this AD to correct the unsafe condition on these products.

Costs of Compliance

We estimate that this proposed AD affects 34,013 airplanes of U.S. registry.

We estimate the following costs to comply with this proposed AD:

Estimated Costs
Action | Labor cost | Parts cost | Cost per product | Cost on U.S. operators
Inspection of the horizontal stabilator control system | 5 work-hours × $85 per hour = $425 | Not applicable | $425 | $14,455,525

We estimate the following costs to do any necessary replacements that would be required based on the results of the proposed inspection. We have no way of determining the number of aircraft that might need these replacements:

On-Condition Costs
Action | Labor cost | Parts cost | Cost per product
Replacement of all stabilator control cable system—per set of cables | 10 work-hours × $85 per hour = $850 | $608 | $1,458

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Piper Aircraft, Inc.: Docket No. FAA-2012-0731; Directorate Identifier 2012-CE-020-AD.

(a) Comments Due Date

We must receive comments by September 17, 2012.

(b) Affected ADs

None.

(c) Applicability

This AD applies to Model PA-28-236, PA-28-140, PA-28-150, PA-28-151, PA-28-160, PA-28-161, PA-28-180, PA-28-181, PA-28-201T, PA-28R-201, PA-28-235, PA-28R-201T, PA-28S-160, PA-28S-180, PA-28R-180, PA-28R-200, PA-28RT-201, PA-28RT-201T, PA-32-260, PA-32-301, PA-32-301T, PA-32-300, PA-32R-300, PA-32R-301T, PA-32R-301 (SP), PA-32R-301 (HP), PA-32RT-300, PA-32RT-300T, PA-32S-300, PA-32-301FT, PA-32-301XTC, PA-34-200, PA-34-200T, PA-34-220T, PA-44-180, and PA-44-180T airplanes, all serial numbers, certificated in any category.

(d) Subject

Joint Aircraft System Component (JASC)/Air Transport Association (ATA) of America Code 2740, Stabilizer Control System.

(e) Unsafe Condition

This AD was prompted by reports of control cable assembly failures that may lead to failure of the horizontal stabilator control system and could result in loss of pitch control. This proposed AD would require inspections of the stabilator control system and replacement of parts as necessary. We are issuing this AD to correct the unsafe condition on these products.

(f) Compliance

Comply with this AD within the compliance times specified, unless already done.

(g) Inspection

(1) As of the effective date of this AD, if the age of the airplane is at or exceeds 15 years, then at the next annual inspection or within the next 12 months after the effective date of this AD, whichever occurs later, do an initial inspection of the stabilator control system following instructions 1 through 10 of Piper Aircraft, Inc. Mandatory Service Bulletin No. 1245, dated May 3, 2012.

(2) As of the effective date of this AD, if the age of the airplane is less than 15 years, then, upon the age of the airplane reaching 15 years, at the next annual inspection or within the next 12 months after the effective date of this AD, whichever occurs later, do an initial inspection of the stabilator control system following instructions 1 through 10 of Piper Aircraft, Inc. Mandatory Service Bulletin No. 1245, dated May 3, 2012.

(3) As of the effective date of this AD, if the age of the airplane cannot be determined, then at the next annual inspection or within the next 12 months after the effective date of this AD, whichever occurs later, do an initial inspection of the stabilator control system following instructions 1 through 10 of Piper Aircraft, Inc. Mandatory Service Bulletin No. 1245, dated May 3, 2012.

Note for paragraph (g)(1), (g)(2) and (g)(3) of this AD: To assist in determining the age of the airplane, you may contact Piper Aircraft, Inc., 2926 Piper Drive, Vero Beach, Florida 32960; telephone: (772) 567-4361; Internet: www.piper.com; or access the FAA airplane registry database at: http://registry.faa.gov/aircraftinquiry/Serial_Inquiry.aspx.

(4) After the applicable initial inspection required in paragraph (g)(1), (g)(2) or (g)(3) of this AD, repetitively thereafter at intervals not to exceed 2,000 hours time-in-service or 7 years, whichever occurs first, inspect the stabilator control system following instructions 1 through 10 of Piper Aircraft, Inc. Mandatory Service Bulletin No. 1245, dated May 3, 2012.

(h) Repair

If any cracks, corrosion, or cable fraying are found during any inspection required in paragraphs (g)(1), (g)(2), (g)(3) or (g)(4) of this AD, before further flight, replace the damaged part with an airworthy part.

(i) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

(1) For more information about this AD, contact Hector Hernandez, Aerospace Engineer, FAA, Atlanta ACO, 1701 Columbia Avenue, College Park, Georgia 30337; telephone: (404) 474-5587; fax: (404) 474-5606; email: hector.hernandez@faa.gov.

(2) For service information identified in this AD, contact Piper Aircraft, Inc., 2926 Piper Drive, Vero Beach, Florida 32960; telephone: (772) 567-4361; Internet: www.piper.com. You may review copies of the service information at the FAA, Small Airplane Directorate, 901 Locust, Kansas City, Missouri 64106. For information on the availability of this material at the FAA, call (816) 329-4148.

Issued in Kansas City, Missouri, on July 25, 2012.
James Jackson,
Acting Manager, Small Airplane Directorate, Aircraft Certification Service.

[FR Doc. 2012-18618 Filed 8-1-12; 8:45 am]

BILLING CODE 4910-13-P